DEPARTMENT OF HOUSING AND URBAN DEVELOPMENT

[Docket No. FR-7001-N-24]

30-Day Notice of Proposed Information Collection: Public Housing Agency Executive Compensation Information

AGENCY: Office of the Chief Information Officer, HUD.

ACTION: Notice.

SUMMARY: HUD submitted the proposed information collection requirement described below to the Office of Management and Budget (OMB) for review, in accordance with the Paperwork Reduction Act. The purpose of this notice is to allow for 30 days of public comment.

DATES: Comments Due Date: June 20, 2018.

ADDRESSES: Interested persons are invited to submit comments regarding this proposal. Comments should refer to the proposal by name and/or OMB Control Number and should be sent to: HUD Desk Officer, Office of Management and Budget, New Executive Office Building, Washington, DC 20503; fax: 202-395-5806, Email: OIRA Submission@omb.eop.gov.

FOR FURTHER INFORMATION CONTACT: Colette Pollard, Reports Management Officer, QMAC, Department of Housing and Urban Development, 451 7th Street SW, Washington, DC 20410; email Colette.Pollard@hud.gov, or telephone 202-402-3400. This is not a toll-free number. Person with hearing or speech impairments may access this number through TTY by calling the toll-free Federal Relay Service at (800) 877-8339. Copies of available documents submitted to OMB may be obtained from Ms. Pollard.

SUPPLEMENTARY INFORMATION: This notice informs the public that HUD is seeking approval from OMB for the information collection described in Section A.

The Federal Register notice that solicited public comment on the information collection for a period of 60 days was published on February 28, 2018 at 83 FR 8697.

A. Overview of Information Collection

Title of Information Collection: Public Housing Agency Executive Compensation Information.

OMB Approved Number: 2577-0272.

Type of Request: Revision of currently approved collection.

Form Number: HUD-52725.

Description of the Need for the Information and Proposed Use: Pursuant to a notice issued annually (most recently PIH Notice 2017-11), HUD collects information on the compensation provided by public housing agencies (PHAs) to its employees. More specifically, under this collection PHAs are to report the compensation paid to the top management official, the top financial official, and all employees who are paid an annual salary over the compensation cap imposed by Congress in HUD's annual appropriations (Level IV of the Executive Schedule). This reporting is similar to the information that non-profit organizations receiving federal tax exemptions are required to report to the IRS annually. Because PHAs receive significant direct federal funds HUD has been collecting compensation information to enhance regulatory oversight by HUD, as well as by state and local authorities. HUD provides the information collected to the public. The compensation data collected includes base salary, bonus, and incentive and other compensation, and the extent to which these payments are made with any Section 8 and 9 appropriated funds.

Respondents (i.e., Affected Public): Public Housing Agencies.

Estimated Number of Respondents: Approximately 4,000.

Estimated Number of Responses: Approximately 4,000.

Frequency of Response: Annual.

Average Hours per Response: 30 minutes.

Total Estimated Annual Burden and Cost: Total burden hours is estimated to be 2,000 hours annually. The total burden cost is estimated to be $46,280.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond: including through the use of appropriate automated collection techniques or other forms of information technology, e.g., permitting electronic submission of responses.

HUD encourages interested parties to submit comment in response to these questions.

Authority: Section 3507 of the Paperwork Reduction Act of 1995, 44 U.S.C. Chapter 35.

Dated: May 8, 2018.
Colette Pollard,
Department Reports Management Officer, Office of the Chief Information Officer.

[FR Doc. 2018-10785 Filed 5-18-18; 8:45 am]

BILLING CODE 4210-67-P